DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, this notice announces the Foreign Agricultural Service's (FAS) intention to request an extension for a currently approved information collection in support of the Public Law 480, Title I program.

DATES: Comments on this notice must be received by February 26, 2002 to be assured of consideration.

FOR FURTHER INFORMATION CONTACT: William Hawkins, Director, Program Administration Division, Foreign Agricultural Service, Room 4077 South Building, Stop 1031, U.S. Department of Agriculture, 1400 Independence Ave., SW., Washington, DC 20250-1031, telephone (202) 720-3241.

SUPPLEMENTARY INFORMATION: Title: Request for Vessel Approval, Form CCC-105; and Request for Vessel Approval Form CCC-105 (cotton).

OMB Number: 0551-0008.

Expiration Date of Approval: April 30, 2002.

Type of Request: Extension of a currently approved information collection.

Abstract: Title I of the Agricultural Trade Development and Assistance Act of 1954, as amended (Public Law 480) authorizes the Commodity Credit Corporation (CCC) to finance the sale and exportation of agricultural commodities on concessional terms. 7 U.S.C. 1701 et seq. Shipping agents or embassies submit pertinent shipping information on Form CCC-105 to facilitate approval by CCC of shipping arrangements. This approval is necessary to assure compliance with cargo preference requirements at the lowest cost to CCC. Agents submit this document in order that USDA can generate the CCC-106, a necessary payment document. Ocean carriers then receive payment for ocean freight.

Estimate of Burden: The public reporting burden is 15 minutes per response for suppliers of ocean transportation reporting details of freight transactions.

Respondents: Business or other for-profit.

Estimated Number of Respondents: 5.

Estimated Total Annual Burden of Respondents: 9 hours.

Copies of this information collection can be obtained from Kimberly Chisley, the Agency Information Collection Coordinator, at (202) 720-2568.

Requests for comments: Comments are requested on (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. comments may be sent to William Hawkins, Director, Program Administration Division, Foreign Agricultural Service Room 4077 South Building, Stop 1031, U.S. department of agriculture, 1400 Independence Ave., SW., Washington, DC 20250-1031, telephone (202) 720-2600 (voice and TDD). All responses to this notice will be summarized and included in the request for OMB approval. All comments will become a matter of public record.

Frank Lee,
Acting General Sales Manager, Foreign Agricultural Service and Acting Vice President, Commodity Credit Corporation.

[FR Doc. 01-31948 Filed 12-27-01; 8:45 am]

BILLING CODE 3410-10-M